DEPARTMENT OF DEFENSE

Office of the Secretary

[Docket ID: DoD-2014-OS-0123]

Privacy Act of 1974; System of Records

AGENCY: Office of the Secretary of Defense, DoD.

ACTION: Notice to add a New System of Records.

SUMMARY: The Office of the Secretary of Defense proposes to add a new system of records, DHRA 14 DoD, entitled “Commercial Travel Information Management System” to its inventory of record systems subject to the Privacy Act of 1974, as amended.

This system establishes a repository of DoD travel records consisting of travel booked within the Defense Travel System as well as through commercial travel vendors in order to satisfy reporting requirements; identify and notify travelers in potential distress due to natural or man-made disaster; assist in the planning, budgeting, and allocation of resources for future DoD travel; conduct oversight operations; analyze travel, budgetary, or other trends; detect fraud and abuse; and respond to authorized internal and external requests for data relating to DoD official travel and travel related services, including premium class travel.

To provide Web site registered guests an online customer support site for submitting inquiries regarding commercial travel within the DoD, including assistance with DTS.

DATES: Comments will be accepted on or before September 22, 2014. This proposed action will be effective the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT or at http://dpclo.defense.gov/.

The proposed system report, as required by 5 U.S.C. 552a(r) of the Privacy Act of 1974, as amended, was submitted on July 10, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: August 19, 2014.
Aaron Siegel,
Alternate OSD Federal Register Liaison Officer, Department of Defense.

DHRA 14 DoD

System name:

Commercial Travel Information Management System.

System location:

Network Enterprise Center, 1422 Sultan Road, Fort Detrick, MD 21702-9200.

Defense Enterprise Computing Center, 8705 Industrial Boulevard, Building 3900, Tinker AFB, OK 73145-3352.

Back-up: Defense Travel Management Office, 4800 Mark Center Drive, Alexandria, VA 22350-9000.

Categories of individuals covered by the system:

DoD civilian personnel; active, former, and retired military members; Reserve and National Guard personnel; military academy nominees, applicants, and cadets; foreign national civilian personnel in receipt of DoD issued invitational travel orders; dependents of DoD sponsors who are accompanying the DoD sponsor on travel; and all other individuals in receipt of DoD travel orders. Registered Web site guests submitting inquiries regarding DoD commercial travel.

Categories of records in the system:

For DoD travelers, information from commercial travel booking systems and the Defense Travel System (DTS): Name, Social Security Number (SSN), truncated SSN, gender, date of birth, email address, Service/Agency, organizational information, mailing address, home address, home, business, and cellular phone numbers, emergency contact information, duty station information, title/rank, civilian/military status information, travel preferences, frequent flyer information, passport information, DoD ID number, financial information to include government and/or personal charge card account numbers and expiration information, government travel charge card transactions, personal checking and/or savings account numbers, government accounting code/budget information, specific trip information to include travel itineraries (includes dates of travel) and reservations, trip record number, trip cost estimates, travel vouchers, travel-related receipts, travel document status information, travel budget information, commitment of travel funds, records of actual payment of travel funds and supporting documentation.

For foreign national civilians on invitational travel orders: Foreign Identification (ID) Number or Individual Taxpayer ID Number, name, date of birth, and passport information.

For dependents who are accompanying the DoD sponsor on travel: Name, date of birth, and passport information.

For registered Web site guests: Name, phone number, email address; if affiliated with DoD, duty station, rank, DoD ID number; if desiring travel alerts, cellular phone number and cellular phone provider; if requiring assistance with DTS, last four of the SSN.

Authority for maintenance of the system:

5 U.S.C. Chapter 57, Travel, Transportation, and Subsistence; 10 U.S.C. 135, Under Secretary of Defense (Comptroller); 10 U.S.C. 136, Under Secretary of Defense for Personnel and Readiness; 37 U.S.C. 463, Programs of Compliance, Electronic Processing of Travel Claims; DoD Directive 4500.09E, Transportation and Traffic Management; DoD Directive 5100.87, Department of Defense Human Resources Activity (DoDHRA); DoD Instruction 5154.31, Commercial Travel Management; DoD Financial Management Regulation 7000.14-R, Vol. 9, Travel Policy; DoD 4500.9-R, Defense Transportation Regulation (DTR), Parts I-V; 41 C.F.R. 300-304, Federal Travel Regulation System; The Joint Federal Travel Regulation (Vol. 1) (Uniformed Service Members); The Joint Travel Regulation (Vol. 2) (Department of Defense Civilian Personnel); and E.O. 9397 (SSN), as amended.

Purpose(s):

To establish a repository of DoD travel records consisting of travel booked within DTS as well as through commercial travel vendors in order to satisfy reporting requirements; identify and notify travelers in potential distress due to natural or man-made disaster; assist in the planning, budgeting, and allocation of resources for future DoD travel; conduct oversight operations; analyze travel, budgetary, or other trends; detect fraud and abuse; and respond to authorized internal and external requests for data relating to DoD official travel and travel related services, including premium class travel.

To provide Web site registered guests an online customer support site for submitting inquiries regarding commercial travel within the DoD, including assistance with DTS.

Routine uses of records maintained in the system, including categories of users and the purposes of such uses:

In addition to those disclosures generally permitted under 5 U.S.C. 552a(b) of the Privacy Act of 1974, as amended, the records contained herein may specifically be disclosed outside the DoD as a routine use pursuant to 5 U.S.C. 552a(b)(3) as follows:

The DoD Blanket Routine Uses set forth at the beginning of the Office of the Secretary of Defense (OSD) compilation of systems of records notices may apply to this system.

Policies and practices for storing, retrieving, accessing, retaining, and disposing of records in the system:

Storage:

Electronic storage media.

Retrievability:

Name, email address, passport number, SSN, and/or DoD ID number.

Safeguards:

Records are stored on secure military installations. Physical controls include use of visitor registers and identification badges, electronic key card access, and closed-circuit television monitoring. Technical controls including intrusion detection systems, secure socket layer encryption, firewalls, and virtual private networks protect the data in transit and at rest. Physical and electronic access is limited to individuals who are properly screened and cleared on a need-to-know basis in the performance of their official duties. Usernames and passwords, Common Access Cards (CACs), and DoD Public Key Infrastructure (PKI), in addition to role-based access controls are used to control access to the systems data. Procedures are in place to deter and detect browsing and unauthorized access including periodic security audits and monitoring of users' security practices. Backups are stored on encrypted media and secured off-site.

Retention and disposal:

Maintained for six years and then destroyed.

System manager(s) and address:

Deputy Director, Defense Travel Management Office, 4800 Mark Center Drive, Alexandria, VA 22350-9000.

Notification Procedure:

Individuals seeking to determine whether information about themselves is contained in this system should address written inquiries to the Deputy Director, Defense Travel Management Office, 4800 Mark Center Drive, Alexandria, VA 22350-9000.

Signed, written requests should contain full name and SSN (or passport number if a foreign national). Web site registered guests should provide full name and email address.

Record access procedures:

Individuals seeking access to records about themselves contained in this system of records should address written requests to the OSD/Joint Staff Freedom of Information Act Requester Service Center, Office of Freedom of Information, 1155 Defense Pentagon, Washington, DC 20301-1155.

Signed, written requests should contain the name and number of this system of records notice. DoD travelers should provide their full name and SSN; foreign travelers should provide full name and passport number; Web site registered guests should provide full name and email address.

Contesting record procedures:

The OSD rules for accessing records, for contesting contents, and appealing initial agency determinations are contained in OSD Administrative Instruction 81; 32 CFR part 311; or may be obtained from the system manager.

Record source categories:

Individual, existing DoD system (DTS), commercial systems (Global Distribution System, Citi).

Exemptions claimed for the system:

None.

[FR Doc. 2014-19934 Filed 8-21-14; 8:45 am]

BILLING CODE 5001-06-P